DEPARTMENT OF COMMERCE

National Oceanic and Atmospheric Administration

Meeting of the Advisory Committee on Commercial Remote Sensing

ACTION: Notice of meeting.

SUMMARY: The Advisory Committee on Commercial Remote Sensing (“ACCRES”) will meet for 2 half-day meetings on April 27 and April 28, 2021.

DATES: The meeting is scheduled as follows: April 27-April 28, 2021 from 11:00 a.m.-3:00 p.m. Eastern Daylight Time (EDT) each day.

ADDRESSES: The meeting will be held virtually via GoToWebinar.

FOR FURTHER INFORMATION CONTACT: Tahara Dawkins, NOAA/NESDIS/CRSRA, 1335 East West Highway, G-101, Silver Spring, Maryland 20910; 301-427-2560 or CRSRA@noaa.gov.

SUPPLEMENTARY INFORMATION: As required by Section 10(a)(2) of the Federal Advisory Committee Act, 5 U.S.C. App. (FACA) and its implementing regulations, see 41 CFR 102-3.150, notice is hereby given of the meeting of ACCRES. ACCRES was established by the Secretary of Commerce (Secretary) on May 21, 2002, to advise the Secretary through the Under Secretary of Commerce for Oceans and Atmosphere on matters relating to the U.S. commercial remote sensing space industry and on the National Oceanic and Atmospheric Administration's activities to carry out the responsibilities of the Department of Commerce set forth in the National and Commercial Space Programs Act of 2010 (51 U.S.C. 60101 et seq.).

Purpose of the Meeting and Matters To Be Considered

The meeting will be open to the public pursuant to Section 10(a)(1) of the FACA. During the meeting, the Committee will hear from government officials on their use of commercial goods and services, the capabilities on Remote Sensing (RS) data, and how they use (RS) Data. There will be report outs from the four task groups.

Additional Information and Public Comments

The meeting will be held over two half-days and will be conducted via GoToWebinar. Please register for the meeting through the link: https://attendee.gotowebinar.com/register/3365092034285989387. This event is accessible to individuals with disabilities. Closed captioning is available. For all other special accommodation requests, please contact Tashaun Pierre Tashaun.Pierre@noaa.gov. This webinar is a NOAA ACCRES public meeting and will be recorded and transcribed. If you have a public comment, you acknowledge you may be recorded and are aware you can opt out of the meeting. Both the meeting minutes and presentations will be posted to the ACCRES website. The agenda, speakers and times are subject to change. For updates, please check online at https://www.nesdis.noaa.gov/CRSRA/accresMeetings.html.

Public comments are encouraged. Individuals or groups who would like to submit advance written comments, please email them to Tahara.Dawkins@noaa.gov, and CRSRA@noaa.gov.

Stephen M. Volz,
Assistant Administrator for Satellite and Information Services.

[FR Doc. 2021-07277 Filed 4-8-21; 8:45 am]

BILLING CODE 3510-22-P